DEPARTMENT OF TRANSPORTATION

Federal Aviation Administration

Notice of Withdrawal of the Record of Decision for the LaGuardia Airport Access Improvement Project

AGENCY: Federal Aviation Administration (FAA), DOT.

ACTION: Withdrawal of the Record of Decision (ROD) for the LaGuardia Airport (LGA) Access Improvement Project (Project).

SUMMARY: The FAA is withdrawing the July 2021 ROD for the Project. The Port Authority of New York and New Jersey has notified the FAA of its intent to terminate the Project and pursue alternative access improvements to LGA. Accordingly, the components identified in the LGA Access Improvement Project ROD are no longer needed at this time. Following the issuance of the ROD, New York Governor Kathy Hochul tasked the Port Authority of New York and New Jersey with reexamining alternative mass transit options to LGA. The resulting recommendations from the corresponding study identified improvements to an existing bus service and construction of a new non-stop airport shuttle service. On July 20, 2023, the Port Authority of New York and New Jersey, as the airport sponsor, notified the FAA of its intent to officially abandon the Project as approved by the FAA's ROD in favor of pursuing the recommended bus service and shuttle improvements. In response to this decision, the FAA has withdrawn the ROD for the LGA Access Improvement Project. Accordingly, all approvals for FAA actions within the ROD are also withdrawn. The Port Authority of New York and New Jersey must reinitiate any requests for FAA review and approval as necessary for all aspects of the Project contained within the now-withdrawn ROD should it wish to proceed with any component of the Project, in part or as a whole.

DATES: The effective date of the FAA's Withdrawal Order for the LGA Access Improvement Project ROD is September 1, 2023.

FOR FURTHER INFORMATION CONTACT: Andrew Brooks, Environmental Program Manager, Eastern Regional Office, AEA-610, Federal Aviation Administration, 1 Aviation Plaza, Jamaica, NY 11434. Telephone: 718-553-2511.

SUPPLEMENTARY INFORMATION: In 2015, former New York Governor Andrew Cuomo convened an Airport Advisory Panel to address the deficiencies of LGA as a major transportation facility. The resulting report recommended that the redevelopment of LGA include new ways to access the airport, including a future AirTrain.

In 2018, based on recommendations from the Airport Advisory Panel, the Port Authority of New York and New Jersey (Port Authority), as operator of LGA, proposed the Project to construct and operate a new Automated People Mover (APM) system to provide a reliable transit alternative for air passenger and employee access to the Airport. The Project would connect two on-Airport stations with an off-Airport transfer station at Willets Point. The off-Airport station would provide connections to the Mets-Willets Point stations of the Long Island Railroad (LIRR) Port Washington Branch and the New York City Transit (NYCT) Subway Flushing Station (7 Line). The off-Airport station would also provide a connection to a new off-Airport employee parking option located at Willets Point. After preparing an Environmental Impact Statement (EIS), the FAA signed a ROD approving the Project on July 20, 2021.

Following the issuance of the ROD, New York Governor Kathy Hochul directed the Port Authority to review alternative mass transit options to the Airport. In November 2021, per the governor's request, the Port Authority assembled a 3-person panel to oversee the study and provide recommendations based on the study's results.

In March 2023, the Port Authority released the “Options for Mass Transit Solutions to LGA” report, which included the panel's independent analysis of 14 different mass transit options to LGA. The panel recommended that the Port Authority proceed with implementing improvements to the existing Metropolitan Transportation Authority (MTA) Q70 LaGuardia Link bus service and constructing a new non-stop airport shuttle service from Ditmars Boulevard, the terminus of the N/W subway line in Astoria, Queens. Due to foreseeable construction and cost constraints, the expert panel recommended that the Port Authority focus on improving bus services at LGA in the near-term to provide more efficient transit capabilities, and to focus on implementing the shuttle service in the long-term. The Port Authority indicates that improved bus service is projected to serve approximately 5 million passengers annually and cost an estimated $500 million compared to costs ranging from $2.4 billion to $6.2 billion for alternative light rail options (Port Authority Board of Commissioners Approves $30 Million for Planning and Preliminary Design to Improve Mass Transit Access to LaGuardia Airport, https://www.panynj.gov/port-authority/en/press-room/press-release-archives/2022-press-releases1/port-authority-board-of-commissioners-approves--30-million-for-p.html). On June 22, 2023, the Port Authority Board of Commissioners approved $30 million in funding to plan and develop preliminary designs for the bus service improvements at LGA as recommended by the panel. On July 20, 2023, the Port Authority notified the FAA of its intent to officially abandon the Project as approved by the FAA's ROD in favor of pursuing the recommended bus service improvements from the “Options for Mass Transit Solutions to LGA” report.

Based on consideration of this substantial new information and the changed circumstances concerning the Port Authority's planned access improvements at LGA as discussed above, the July 2021 ROD for the LGA Access Improvement Project has been withdrawn. Accordingly, all approvals for FAA actions within the ROD are also withdrawn. The Port Authority must reinitiate any requests for FAA review and approval as necessary for all aspects of the Project contained within the now-withdrawn ROD should it wish to proceed with any component of the Project, in part or as a whole.

FOR FURTHER INFORMATION CONTACT: Andrew Brooks, Environmental Program Manager, Eastern Regional Office, AEA-610, Federal Aviation Administration, 1 Aviation Plaza, Jamaica, NY 11434. Telephone: 718-553-2511.

Issued in Jamaica, New York, September 8, 2023.
Evelyn Martinez,
Manager, New York Airports District Office, Eastern Region.

[FR Doc. 2023-19850 Filed 9-13-23; 8:45 am]

BILLING CODE P